NUCLEAR REGULATORY COMMISSION

[Docket No. 50-302]

Florida Power Corporation, et al; Crystal River Unit 3; Environmental Assessment and Finding of No Significant Impact

The U.S. Nuclear Regulatory Commission (NRC) is considering issuance of an amendment to Facility Operating License No. DPR-72, issued to Florida Power Corporation (the licensee), for operation of Crystal River Unit 3, located in Citrus County, Florida.

Environmental Assessment

Identification of the Proposed Action

The proposed amendment would revise the Crystal River Unit 3, Technical Specifications, Appendix B, “Environmental Protection Plan (Non-Radiological)” (EPP), to incorporate the reasonable and prudent measures, and the terms and conditions, of the Incidental Take Statement included with the Biological Opinion issued by the National Marine Fisheries Service (NMFS), which was forwarded to the licensee by the Commission on July 15, 1999. The proposed amendment will ensure that the information in the Biological Opinion is included in the EPP, and also makes several administrative changes to correct out-dated information.

The proposed action is in accordance with the licensee's application for amendment dated October 12, 1999.

The Need for the Proposed Action

The proposed action would incorporate the reasonable and prudent measures and the terms and conditions of the Incidental Take Statement of the Biological Opinion issued by NMFS into the Crystal River Unit 3 operating license.

Environmental Impacts of the Proposed Action

The NRC has completed its evaluation of the proposed action and concludes that implementation of the Incidental Take Statement in the Crystal River Unit 3 Environmental Protection Plan would support the National Marine Fisheries Service conclusion that the continued operation of the cooling water intake system at the Crystal River Energy Complex is not likely to jeopardize the continued existence of threatened or endangered sea turtle species under NMFS jurisdiction. The Incidental Take Statement identifies actions that have been, or will be, taken by Crystal River to ensure the takes of endangered sea turtles are limited. These actions include a capture and release program for endangered sea turtles stranded on the intake canal bar racks, a program to monitor for endangered sea turtles at the cooling water intakes on a regular basis, and the maintenance of records of sea turtle strandings and takes.

The proposed action will not significantly increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the Commission concludes that there are no significant environmental impacts associated with the proposed action.

Alternatives to the Proposed Action

As an alternative to the proposed action, the staff considered denial of the proposed action (i.e., the “no-action” alternative). Denial of the application would result in Crystal River not implementing the Incidental Take Statement which would lead to takes of endangered sea turtles outside the NMFS Biological Opinion. The environmental impacts of the proposed action are less than the alternative action.

Alternative Use of Resources

This action does not involve the use of any resources not previously considered in the Final Environmental Statement for Crystal River Unit 3.

Agencies and Persons Consulted

In accordance with its stated policy, on January 12, 2000, the staff consulted with William Passetti, Chief, Department of Health, Bureau of Radiation Control, for the state of Florida, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 12, 1999, which is available for public inspection at the Commission's Public Document Room, The Gelman Building, 2120 L Street, NW., Washington, DC. Publicly available records will be accessible electronically from the ADAMS Public Library component on the NRC Web site, http:\\www.nrc.gov (the Electronic Reading Room).

Dated at Rockville, Maryland, this 18th day of February 2000.
For the Nuclear Regulatory Commission.
L.A. Wiens,
Senior Project Manager, Section 2, Project Directorate II, Division of Licensing Project Management, Office of Nuclear Reactor Regulation.

[FR Doc. 00-4460 Filed 2-24-00; 8:45 am]

BILLING CODE 7590-01-P